FEDERAL COMMUNICATIONS COMMISSION

47 CFR Part 64

[CC Docket No. 94-129; FCC 00-255 and FCC 01-67]

Implementation of the Subscriber Carrier Selection Changes Provisions of the Telecommunications Act of 1996, Policies and Rules Concerning Unauthorized Changes of Consumers Long Distance Carriers

AGENCY: Federal Communications Commission.

ACTION: Final rule; announcement of effective date.

SUMMARY: This document announces the effective date of certain carrier change authorization and verification rules we adopted in the Third Report and Order and Second Order on Reconsideration (Third Report and Order) in our slamming proceeding and amended in a subsequent Order. The amended Third Report and Order was published in the Federal Register on March 1, 2001.

DATES: The amendments to 47 CFR 64.1130(a) through (c), 64.1130(i), 64.1130(j), 64.1180, 64.1190(d)(2), 64.1190(d)(3), 64.1190(e), and 64.1195 published at 66 FR 12877 (March 1, 2001) and at 66 FR 16151 (March 23, 2001) become effective on April 2, 2001.

FOR FURTHER INFORMATION CONTACT: Michele Walters, Associate Division Chief, or Dana Walton-Bradford, Attorney, Accounting Policy Division, Common Carrier Bureau, (202) 418-7400.

SUPPLEMENTARY INFORMATION: In the Third Report and Order, released August 15, 2000, the Federal Communications Commission (Commission) revised its carrier change authorization and verification rules. In a subsequent Order, released February 22, 2001, the Commission amended the reporting and registration requirements adopted in the Third Report and Order. A summary of the amended Third Report and Order was published in the Federal Register. 66 FR 12877 (March 1, 2001). The supplementary information in the summary was corrected in a document published in the Federal Register. 66 FR 16151 (March 23, 2001). The Office of Management and Budget (OMB) approved the information collections contained in section 64.1195 on March 1, 2001. OMB. No. 3060-0855. OMB approved the information collections contained in sections 64.1130, 64.1180, and 64.1190 on March 22, 2001. OMB No. 3060-0787. The rules adopted in the amended Third Report and Order will take effect on April 2, 2001.

List of Subjects in 47 CFR Part 64

Communications common carriers, Reporting and recordkeeping requirements, Telephone.

Federal Communications Commission.
Magalie Roman Salas,
Secretary.

[FR Doc. 01-7938 Filed 3-28-01; 8:45 am]

BILLING CODE 6712-01-P